DEPARTMENT OF COMMERCE

National Oceanic and Atmospheric Administration

RIN 0648-XW01

Mid-Atlantic Fishery Management Council (MAFMC); Meeting

AGENCY: National Marine Fisheries Service (NMFS), National Oceanic and Atmospheric Administration (NOAA), Commerce.

ACTION: Notice of public hearings.

SUMMARY: The Mid-Atlantic Fishery Management Council (MAFMC) will hold public hearings.

DATES: Monday, May 3, 2010, Monday, May 10, 2010, Wednesday, May 12, 2010, and Tuesday, May 18, 2010. All meetings begin at 7 p.m.

ADDRESSES: The hearing on Monday, May 3, 2010 will be held at the Atlantic States Marine Fisheries Commission Spring Meeting, Crowne Plaza Old Town Alexandria, 901 N. Fairfax St., Alexandria, VA 22314. The hearing on Monday, May 10, 2010 will be held at the Virginia Marine Resources Commission, 2600 Washington Avenue, Newport News, VA 23607. The hearing on Wednesday, May 12, 2010 will be held at the New York Department of Environmental Conservation, NYSDEC Marine Resources, 205 N. Belle Mead Rd., Suite 1, East Setauket, NY 11733. The hearing on Tuesday, May 18, 2010 will be held at Richard Stockton College of New Jersey, Lakeside Center Lodge (off Laurel Lane and Oak Pond Drive; follow campus signs to Lakeside Center), Pomona, NJ 08240.

COUNCIL ADDRESS: Mid-Atlantic Fishery Management Council, 800 N. State Street, Suite 201, Dover, DE 19901; telephone: (302) 674-2331.

FOR FURTHER INFORMATION CONTACT: Daniel T. Furlong, Executive Director, Mid-Atlantic Fishery Management Council, 800 N. State Street, Suite 201, Dover, DE 19901;telephone: (302) 674-2331, extension 255.

SUPPLEMENTARY INFORMATION: The Mid-Atlantic Fishery Management Council will hold public hearings and receive comments on measures contained in its Annual Catch Limits and Accountability Measures Omnibus Amendment, which would amend its Atlantic Mackerel, Butterfish, Atlantic Bluefish, Spiny Dogfish, Summer Flounder, Scup, Black Sea Bass, Tilefish, Surfclam, and Ocean Quahog Fishery Management Plans (FMPs). The public hearing document will be available at all of the public hearings and is currently available via the Internet at: http://www.mafmc.org/comments//comments.htm. It can also be obtained on request from the Council office at the address and telephone number listed in below. In addition to providing information and comments at the above public hearings, you may submit written comments on or before 5:00 p.m., EDT, on May 21, 2010 to Daniel T. Furlong, Mid-Atlantic Fishery Management Council, 800 N. State St., Suite 201, Dover, DE 19901; telephone: 302-674-2331, or fax 302-674-5399. Comments may also be sent via fax at the above fax number or by e-mail to info1@mafmc.org. Please note on your correspondence and in the subject line of e-mail comments the following identifier: “Omnibus ACL/AM Amendment Comments.”

Special Accommodations

The meeting is physically accessible to people with disabilities. Requests for sign language interpretation or other auxiliary aids should be directed to M. Jan Saunders at the Mid-Atlantic Council Office (302) 674-2331 extension 251 at least five days prior to the meeting date.

Dated: April 19, 2010.
Tracey L. Thompson,
Actiing Director, Office of Sustainable Fisheries, National Marine Fisheries Service.

[FR Doc. 2010-9302 Filed 4-21-10; 8:45 am]

BILLING CODE 3510-22-S